FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 24, 2015.

A. Federal Reserve Bank of Richmond (Adam M. Drimer, Assistant Vice President) 701 East Byrd Street, Richmond, Virginia 23261-4528:

1. Gene B. Dixon, Jr., Dillwyn, Virginia, to individually and as a group acting in concert with Guy B. Dixon Trust of the Separate Grandchild's Trust for the benefit of Guy B. Dixon, Dillwyn, Virginia; Curtis Dixon Colgate, Trustee of the Separate Grandchild's Trust for the benefit of Curtis Dixon Colgate, Virginia Beach, Virginia; Arch Huddle Dixon, Trustee of the Separate Grandchild's Trust for the benefit of Arch Huddle Dixon, Virginia Beach, Virginia; Sharon Newcomb, Merritt Island, Florida; and Erica Vail Dixon, Trustee of the Separate Grandchild's Trust for the benefit of Erica Vail Dixon, Dillwyn, Virginia; to acquire voting shares of BCC Bankshares, Inc., and thereby indirectly acquire voting shares of The Bank of Charlotte County, both in Phenix, Virginia.

Board of Governors of the Federal Reserve System, August 4, 2015.
Michael J. Lewandowski,
Associate Secretary of the Board.

[FR Doc. 2015-19380 Filed 8-6-15; 8:45 am]

BILLING CODE 6210-01-P